DEPARTMENT OF COMMERCE

Foreign-Trade Zones Board

[Docket 19-2008]

Foreign-Trade Zone 26 Atlanta, GA, Withdrawal of Application for Subzone Status, Kia Motors Manufacturing Georgia, Inc. (Motor Vehicles)

Notice is hereby given of the withdrawal of the application requesting special-purpose subzone status for the motor vehicle manufacturing plant of Kia Motors Manufacturing Georgia, Inc. The application was filed on March 28, 2008 (73 FR 20247, 4-15-2008).

The withdrawal was requested due to changed circumstances involving potential expansion of FTZ 26 to include new general-purpose (multi-user) sites in the western Georgia area, and the case has been closed without prejudice.

Dated: April 25, 2008.
Andrew McGilvray,
Executive Secretary.

[FR Doc. E8-10077 Filed 5-6-08; 8:45 am]

BILLING CODE 3510-DS-S